DEPARTMENT OF HOUSING AND URBAN DEVELOPMENT

[Docket No. 5914-N-03]

60 Day Notice of Proposed Information Collection: American Healthy Homes Survey II

AGENCY: Office of Lead Hazard Control and Healthy Homes, HUD.

ACTION: Notice.

SUMMARY: The proposed information collection requirement concerning an American Healthy Homes Survey II in homes across the country will be submitted to the Office of Management and Budget (OMB) for review, as required by the Paperwork Reduction Act. The Department is soliciting public comments on the subject proposal.

DATES: Comments Due Date: February 6, 2017.

ADDRESSES: Interested persons are invited to submit comments regarding this proposal. Comments should refer to the proposal by name and/or OMB Control Number and should be sent to: Ms. Ashley Mack, Reports Liaison Officer, Department of Housing and Urban Development, 451 7th Street SW., Room 8236, Washington, DC 20410.

FOR FURTHER INFORMATION CONTACT: Peter Ashley, (202) 402-7595 (this is not a toll-free number), or Peter.J.Ashley@hud.gov, for copies of the proposed information collection instruments and other available documents electronically or on paper.

SUPPLEMENTARY INFORMATION: The Department is submitting the proposed information collection to OMB for review, as required by the Paperwork Reduction Act of 1995, (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: American Healthy Homes Survey II.

OMB Control Number: Pending.

Need for the Information and Proposed Use: Lead is a highly toxic heavy metal that adversely affects virtually every organ system in the body. Young children are particularly susceptible to its effects, with nervous system development and lower IQ the most serious. Lead poisoning remains one of the top childhood environmental health problems today. The most current national survey of young children's blood lead levels, the National Health and Nutrition Examination Survey (NHANES) conducted by the Centers for Disease Control and Prevention (CDC) (2007-2010), shows that about 535,000 young children have elevated blood lead levels (Note: The CDC changed to a lower “reference value” of 5 μg/dl to define an elevated blood lead level (EBLL) in 2012, increasing the number of children to be considered as having an EBLL, including for this analysis.) The most common source of lead exposure for children today is deteriorating lead paint in older housing and the contaminated dust and soil it generates. The National Survey of Lead and Allergens in Housing (NSLAH), conducted by HUD and the National Institute of Environmental Health Sciences in 1998-2000, estimated that 37.9 million homes had lead-based paint and 24.0 million homes had significant lead-based paint hazards; the American Healthy Homes Survey (AHHS I, 2005-6), conducted by HUD and the Environmental Protection Agency, found that 37.1 million homes had lead-based paint, and that 23.2 million homes had significant lead-based paint hazards.

With the more recent of these surveys being over a decade old, new information is needed to identify the extent of progress toward achieving the goal of the President's Task Force on Environmental Health Risks and Safety Risks to Children of eliminating lead paint hazards in housing where children under six live, and help target control strategies toward achieving the goal.

Asthma is a chronic respiratory disease characterized by episodes of airway inflammation and narrowing. It is generally accepted that asthma results from the interaction between genetic susceptibility and environmental exposures. Exposure to indoor allergy-producing substances (allergens) is believed to play an important role in the development and exacerbation of asthma. NSLAH (1998-2000) found that most U.S. homes had detectable levels of dust mite allergen associated with allergic sensitization and asthma. AHHS I (2005-2006) found allergens, pesticides and mold in homes nationwide. Dust mite, dog and cat allergen levels at and above the allergen concentration threshold level that can result in the development of allergic sensitivity or asthma symptoms in susceptible individuals were widespread in housing. Mouse and cockroach allergens were also found. This AHHS II will collect allergy-related samples only for pesticide and mold analyses.

Such airborne chemicals as carbon monoxide, airborne particulate matter, and formaldehyde, such chemicals on surfaces as pesticides, and such unintentional injury factors as housing conditions associated with falls, fires and poisons, are known to have adverse health or safety effects. National residential prevalence estimates for these factors are generally unavailable, limiting the ability of HUD and other agencies to develop data-driven control strategies.

Results from this survey will provide current information needed for regulatory and policy decisions and enable an assessment of progress in making the U.S. housing stock safe.

This information will be used to revise policy and guidance targeting the housing with the greatest needs for evaluation and control of lead and additional housing-related safety and health hazards.

Agency Form Number: None.

Members of Affected Public: Homeowners and rental housing tenants.

Total Burden Estimate (First Year):

Number of respondents: 600.

Frequency of response: 1.

Hours per response: 4.0.

Total Estimated Burden Hours: 2,400.

Status of the Proposed Information Collection: New request.

Dated: December 2, 2016.
Jon L. Gant,
Director, Office of Lead Hazard Control and Healthy Homes.

[FR Doc. 2016-29447 Filed 12-7-16; 8:45 am]

BILLING CODE 4210-67-P